SURFACE TRANSPORTATION BOARD

[Docket No. AB 1094X]

City of Los Angeles—Abandonment Exemption—in Los Angeles County, Cal.

The City of Los Angeles (the City) has filed a verified notice of exemption under 49 CFR part 1152 subpart F—Exempt Abandonments to abandon a 2.6-mile portion of a rail line known as the San Pedro Subdivision extending from milepost 4.00 (north of Front Street and east of the Gaffey Street Lead) to the end of the line at milepost 6.60 in Los Angeles County, Cal. (the Line). The Line traverses U.S. Postal Service Zip Code 90731.

The City has certified that: (1) No local traffic has moved over the Line for at least two years; (2) no overhead traffic will need to be rerouted because the Line is stub-ended; (3) no formal complaint filed by a user of rail service on the Line (or by a state or local government entity acting on behalf of such user) regarding cessation of service over the Line either is pending with the Surface Transportation Board (Board) or with any U.S. District Court or has been decided in favor of a complainant within the two-year period; and (4) the requirements of 49 CFR 1105.7 and 1105.8 (notice of environmental and historic reports), 49 CFR 1105.9 (Coastal Zone Management Act), 49 CFR 1105.11 (transmittal letter), 49 CFR 1105.12 (newspaper publication), and 49 CFR 1152.50(d)(1) (notice to governmental agencies) have been met.

As a condition to this exemption, any employee adversely affected by the abandonment shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received,¹ the exemption will be effective on July 7, 2021, unless stayed pending reconsideration. The City simultaneously has filed in this proceeding a petition for exemption from the OFA provisions at 49 U.S.C. 10904 and the public use provisions at 49 U.S.C. 10905.² That petition will be addressed in a subsequent decision.

¹ Persons interested in submitting an OFA must first file a formal expression of intent to file an offer, indicating the type of financial assistance they wish to provide (i.e., subsidy or purchase) and demonstrating that they are preliminarily financially responsible. See 49 CFR 1152.27(c)(2)(i).

² While this is not the preferred procedural approach, it will be permitted here. See Union Pac. R.R.—Aban. Exemption—in Adams, Weld & Boulder Cntys., Colo., AB 33 (Sub-No. 307X), slip op. at 1 n.2 (STB served Oct. 18, 2012) (“Even if the abandonment is eligible for a class exemption, if a petitioner also seeks exemptions that must be ruled upon by the entire Board, the better practice is to file one petition for exemption seeking both the abandonment and any other requested exemptions.”).

Petitions to stay that do not involve environmental issues,³ formal expressions of intent to file an OFA under 49 CFR 1152.27(c)(2), and interim trail use/rail banking requests under 49 CFR 1152.29 must be filed by June 17, 2021.⁴ Petitions to reopen or requests for public use conditions under 49 CFR 1152.28 must be filed by June 28, 2021.

³ The Board will grant a stay if an informed decision on environmental issues (whether raised by a party or by the Board's Office of Environmental Analysis (OEA) in its independent investigation) cannot be made before the exemption's effective date. See Exemption of Out-of-Serv. Rail Lines, 5 I.C.C.2d 377 (1989). Any request for a stay should be filed as soon as possible so that the Board may take appropriate action before the exemption's effective date.

⁴ Filing fees for OFAs and trail use requests can be found at 49 CFR 1002.2(f)(25) and (27), respectively.

All pleadings, referring to Docket No. AB 1094X, should be filed with the Surface Transportation Board via e-filing on the Board's website. In addition, a copy of each pleading must be served on the City's representative, Allison I. Fultz, Kaplan Kirsch & Rockwell, 1001 Connecticut Avenue NW, Suite 800, Washington, DC 20036.

If the verified notice contains false or misleading information, the exemption is void ab initio.

The City has filed a combined environmental and historic report that addresses the potential effects, if any, of the abandonment on the environment and historic resources. OEA will issue a Draft Environmental Assessment (Draft EA) by June 11, 2021. The Draft EA will be available to interested persons on the Board's website, by writing to OEA, or by calling OEA at (202) 245-0305. Assistance for the hearing impaired is available through the Federal Relay Service at (800) 877-8339. Comments on environmental and historic preservation matters must be filed within 15 days after the Draft EA becomes available to the public.

Environmental, historic preservation, public use, or interim trail use/rail banking conditions will be imposed, where appropriate, in a subsequent decision.

Pursuant to the provisions of 49 CFR 1152.29(e)(2), the City shall file a notice of consummation with the Board to signify that it has exercised the authority granted and fully abandoned the Line. If consummation has not been effected by the City's filing of a notice of consummation by June 7, 2022, and there are no legal or regulatory barriers to consummation, the authority to abandon will automatically expire.

Board decisions and notices are available at www.stb.gov.

Decided: June 1, 2021.
By the Board, Scott M. Zimmerman, Acting Director, Office of Proceedings.
Kenyatta Clay,
Clearance Clerk.

[FR Doc. 2021-11822 Filed 6-4-21; 8:45 am]

BILLING CODE 4915-01-P